DEPARTMENT OF HOMELAND SECURITY

Federal Emergency Management Agency

[Docket ID: FEMA-2017-0021; OMB No. 1660-0105]

Agency Information Collection Activities: Proposed Collection; Comment Request; Community Preparedness and Participation Survey

AGENCY: Federal Emergency Management Agency, DHS.

ACTION: Notice.

SUMMARY: The Federal Emergency Management Agency, as part of its continuing effort to reduce paperwork and respondent burden, invites the general public and other Federal agencies to take this opportunity to comment on a revision of a currently approved information collection. In accordance with the Paperwork Reduction Act of 1995, this notice seeks comments concerning the FEMA Community Preparedness and Participation Survey used to identify progress and gaps in citizen and community preparedness.

DATES: Comments must be submitted on or before July 18, 2017.

ADDRESSES: To avoid duplicate submissions to the docket, please use only one of the following means to submit comments:

(1) Online. Submit comments at www.regulations.gov under Docket ID FEMA-2017-0021. Follow the instructions for submitting comments.

(2) Mail. Submit written comments to Docket Manager, Office of Chief Counsel, DHS/FEMA, 500 C Street SW., 8NE, Washington, DC 20472-3100.

All submissions received must include the agency name and Docket ID. Regardless of the method used for submitting comments or material, all submissions will be posted, without change, to the Federal eRulemaking Portal at http://www.regulations.gov, and will include any personal information you provide. Therefore, submitting this information makes it public. You may wish to read the Privacy Act notice that is available via the link in the footer of www.regulations.gov.

FOR FURTHER INFORMATION CONTACT: Jacqueline Snelling, Senior Advisor, FEMA, National Preparedness Directorate, at (202) 786-9577. You may contact the Records Management Division for copies of the proposed collection of information at email address: FEMA-Information-Collections-Management@fema.dhs.gov.

SUPPLEMENTARY INFORMATION: The Stafford Act, Title VI, Emergency Preparedness (42 U.S.C. 5195-5195(a)) identifies the purpose of emergency preparedness “for the protection of life and property in the United States from hazards.” It directs that the Federal Government “provide necessary direction, coordination, and guidance” as authorized for a comprehensive emergency preparedness system for all hazards. Emergency preparedness is defined as all “activities and measures designed or undertaken to prepare or minimize the effects of a hazard upon the civilian population . . .” The “conduct of research” is among the measures to be undertaken in preparation for hazards.

The DHS Strategic Plan 2014-2018 includes a Goal 5.1 including the goal for “improving strategies for the mission of empowering individuals and communities to strengthen and sustain their own preparedness”

The FEMA Strategic Plan 2014-2018 references FEMA priorities for preparing individuals in Priority #1—to achieve a survivor-centric mission where “Individuals and communities know the steps to take, have the tools required, and take appropriate actions, before, during, and after disasters”, and in Priority #3, to better prepare survivors and bystanders.

Presidential Policy Directive-8 (PPD-8) directs the Secretary of Homeland Security to “coordinate a comprehensive campaign to build and sustain national preparedness, including public outreach and community-based and private sector programs to enhance national resilience, the provision of Federal financial assistance, preparedness efforts by the Federal Government, and national research and development efforts.”

In response to the charge to FEMA and to the DHS and FEMA strategic priorities, FEMA conducts programs to improve the public's knowledge and actions for preparedness and resilience including the READY.gov program, the Prepareathon program, and related programs such as the Youth Preparedness program that focus on specific populations and hazards. Information from this collection will be used to track changes in knowledge, attitudes and behaviors related to preparedness in the general public, and to track the outcomes of the national campaigns and programs in motivating behavior change for preparedness in the general public.

Collection of Information

Title: Community Preparedness and Participation Survey.

Type of Information Collection: Revision of a currently approved information collection.

OMB Number: 1660-0105.

FEMA Forms: FEMA Form 008-0-15, Community Preparedness and Participation Survey.

Abstract: The Individual and Community Preparedness Division uses this information to more effectively improve the state of preparedness and participation from the general public by customizing preparedness education and training programs, messaging and public information efforts, and strategic planning initiatives.

Affected Public: Individuals or households.

Number of Respondents: 5,040.

Number of Responses: 5,040.

Estimated Total Annual Burden Hours: 1,260 hours.

Estimated Cost: The estimated annual cost to respondents for the hour burden is $32,760. There are no annual costs to respondents operations and maintenance costs for technical services. There is no annual start-up or capital costs. The cost to the Federal Government is $627,432.28.

Comments

Comments may be submitted as indicated in the ADDRESSES caption above. Comments are solicited to (a) evaluate whether the proposed data collection is necessary for the proper performance of the agency, including whether the information shall have practical utility; (b) evaluate the accuracy of the agency's estimate of the burden of the proposed collection of information, including the validity of the methodology and assumptions used; (c) enhance the quality, utility, and clarity of the information to be collected; and (d) minimize the burden of the collection of information on those who are to respond, including through the use of appropriate automated, electronic, mechanical, or other technological collection techniques or other forms of information technology, e.g., permitting electronic submission of responses.

Dated: May 15, 2017.
Richard W. Mattison,
Records Management Program Chief, Mission Support, Federal Emergency Management Agency, Department of Homeland Security.

[FR Doc. 2017-10163 Filed 5-18-17; 8:45 am]

BILLING CODE 9111-46-P